ENVIRONMENTAL PROTECTION AGENCY

[FRL-7209-9]

Notice of Proposed Agreement for Recovery of Past and Future Response Costs Pursuant to Section 122(h) of the Comprehensive Environmental Response, Compensation and Liability Act (CERCLA), Electro-Coatings Superfund Site, Cedar Rapids, IA, Docket No. CERCLA-07-2002-0002

AGENCY: Environmental Protection Agency.

ACTION: Notice of proposed agreement for recovery of past and future response costs, Electro-Coatings Superfund Site, Cedar Rapids, Iowa.

SUMMARY: Notice is hereby given that a proposed agreement for recovery of past and future response costs concerning the Electro-Coatings Superfund Site, Cedar Rapids, Iowa, with the following parties: EC Industries, Inc., Electro-Coatings, Inc., Electro-Coatings of Iowa, Inc., and Shaver Road Investments (Settling Respondents). This proposed settlement was signed by the United States Environmental Protection Agency (EPA) on March 27, 2002.

DATES: EPA will receive written comments relating to the proposed agreement for recovery of past and future response costs by June 10, 2002.

ADDRESSES: Comments should be addressed to Denise L. Roberts, Senior Assistant Regional Counsel, United States Environmental Protection Agency, Region VII, 901 N. 5th Street, Kansas City, Kansas 66101 and should refer to the Electro-Coatings Superfund Site Proposed Agreement for Recovery of Past and Future Response Costs, Docket No. CERCLA-07-2002-0002.

The proposed settlement may be examined or obtained in person or by mail from Kathy Robinson, Regional Hearing Clerk, at the office of the United States Environmental Protection Agency, Region VII, 901 N. 5th Street, Kansas City, KS 66101, (913) 551-7567.

SUPPLEMENTARY INFORMATION: This Proposed Agreement concerns the Electro-Coatings Superfund Site, located in Cedar Rapids, Iowa and is made and entered into by EPA and EC Industries, Inc., Electro-Coatings, Inc., Electro-Coatings of Iowa, Inc., and Shaver Road Investments (Settling Respondents).

In response to the release or threatened release of hazardous substances at or from the Site, EPA undertook response actions at the Site pursuant to Section 104 of CERCLA, 42 U.S.C. 9604, including but not limited to investigations, sampling and analysis, and oversight of the monitoring of groundwater contamination caused by hexavalent chromium at the Site. In performing this response action, EPA incurred response costs at or in connection with the Site.

Pursuant to Section 107(a) of CERCLA, 42 U.S.C. 9607(a), the Settling Respondents are responsible parties and are jointly and severally liable for response costs incurred at or in connection with the Site. The Superfund Division Director as Regional delegatee for the Regional Administrator of EPA Region VII, has determined that the total past and future response costs of the United States at or in connection with the Site will not exceed $500,000, excluding interest.

This Agreement requires the Settling Respondents to pay to the EPA Hazardous Substance Superfund the principal sum of $172,374.57 in reimbursement of 65% of past response costs, interest from January 31, 2001, and will resolve the Settling Respondents' alleged civil liability for these costs. In addition, the Settling Respondents shall also pay $12,800 in future oversight costs. The proposed Agreement includes a covenant not to sue the Settling Respondents pursuant to Section 122(g)(2) of CERLCA, 42 U.S.C. 9622(g)(2).

Dated: April 29, 2002.
William W. Rice,
Deputy Regional Administrator, United States Environmental Protection Agency, Region VII.

[FR Doc. 02-11739 Filed 5-9-02; 8:45 am]

BILLING CODE 6560-50-P